DEPARTMENT OF ENERGY

Controlled Hydrogen Fleet and Infrastructure Demonstration and Validation Project

AGENCY: U.S. Department of Energy (DOE).

ACTION: Issuance of solicitation for financial assistance applications, solicitation number DE-PS36-03GO93010.

SUMMARY: The Office of Hydrogen, Fuel Cell, and Infrastructure Technologies of the Department of Energy (DOE) Office of Energy Efficiency and Renewable Energy is soliciting financial assistance Applications with the objective of supporting industry efforts and the President's Hydrogen Fuel Initiative in developing a path to a hydrogen economy. DOE intends to provide financial support under provisions of the Hydrogen Future Act of 1996.

DATES: Issuance of the Solicitation is planned for May 5, 2003 with a closing date of August 15, 2003.

ADDRESSES: To obtain a copy of the Solicitation once it is issued, interested parties should access the DOE Industry Interactive Procurement System (IIPS) Web site. The Solicitation can be obtained directly through IIPS at http://e-center.doe.gov by browsing opportunities by Program Office, Financial Assistance, Golden Field Office, and then selecting this Solicitation number. DOE will not issue paper copies of the Solicitation.

FOR FURTHER INFORMATION CONTACT: James Damm, Contracting Officer, via facsimile to (303) 275-4788 or electronically to h2validation@go.doe.gov. Once the Solicitation is issued, all questions must be submitted through IIPS per the instructions contained in the Solicitation. Responses to questions will be posted on the IIPS Web site. Further information on DOE's Hydrogen, Fuel Cells, and Infrastructure Technologies Program can be viewed at http://www.eere.energy.gov/hydrogenandfuelcells.

SUPPLEMENTARY INFORMATION: Under this Solicitation, DOE is soliciting Applications for Validation projects that include the testing, demonstration, and validation of hydrogen fuel cell vehicles and infrastructure, and the required vehicle and infrastructure interfaces for complete system solutions. The Validation projects should also include a comprehensive safety plan, a program that enhances the development of codes and standards, and a comprehensive, integrated education and training campaign.

Awards under this Solicitation will be Cooperative Agreements, with a five-year Project Period. Teams under this Solicitation must include an automobile manufacturer and an energy company, with one of the two entities proposed as the Applicant. DOE anticipates selecting three to five Applications for negotiation toward Award. Subject to the availability of annual congressional appropriations, the total cumulative DOE funding available under this Solicitation for all projects is anticipated to be between $150 million and $240 million. Applicant cost share is required in order to be considered for an Award under this Solicitation. The minimum required cost share varies with the type of Applicant and type of proposed project and will be specified in the Solicitation.

Issued in Golden, Colorado, on May 5, 2003.
Jerry L. Zimmer,
Director, Office of Acquisition and Financial Assistance.

[FR Doc. 03-12163 Filed 5-14-03; 8:45 am]

BILLING CODE 6450-01-P